DEPARTMENT OF AGRICULTURE

Animal and Plant Health Inspection Service

[Docket No. APHIS-2019-0035]

Domestic Quarantine: Quarantined Areas and Regulated Articles

AGENCY: Animal and Plant Health Inspection Service, USDA.

ACTION: Notice.

SUMMARY: We are advising the public of the changes made to our lists of domestic quarantined areas in the past year. These changes may be viewed on the relevant plant pest programs' websites.

FOR FURTHER INFORMATION CONTACT: Dr. Derek A. Woller, Senior Regulatory Policy Specialist, RCC, IRM, PEIP, PPQ, APHIS, 4700 River Road, Riverdale, MD 20737-1228; (480) 490-6454; Derek.A.Woller@usda.gov.

SUPPLEMENTARY INFORMATION: The regulations in 7 CFR part 301 are designed to prevent the interstate spread of plant pests that are new to or not widely distributed within the United States. Subparts C through X (§§ 301.32 through 301.92-12, referred to below as the regulations) each address a specific plant pest and contain criteria for designating certain areas of the United States as quarantined areas ¹ for the specific plant pest. The regulations restrict the interstate movement of certain regulated articles from quarantined areas in order to prevent the spread of plant pests to noninfected areas of the United States.

¹ Certain subparts refer to quarantined areas as “regulated areas,” “protected areas,” or “suppressive/generally infested areas.”

On December 29, 2022, the Animal and Plant Health Inspection Service (APHIS) published in the Federal Register a final rule (Docket No. APHIS-2019-0035, 87 FR 80002-80019), effective January 30, 2023, that moved certain lists of quarantined areas and regulated articles from the regulations to web pages maintained by APHIS. In accordance with the final rule, APHIS keeps updated lists of quarantined areas on the relevant plant pest programs' websites, which are listed in the relevant subpart of the regulations. When a change to the status of a plant pest threat occurs, APHIS takes appropriate action to add, expand, remove, or reduce a quarantined area, and the relevant APHIS plant pest program updates the web-based list of quarantined areas for their program. APHIS also publishes a yearly notice informing the public of all updates to quarantined areas that have occurred since publication of the last notice informing the public of such updates.

Since our last action ² informing the public of updates to our lists of quarantined areas, the following actions revising our lists of quarantined areas have been taken. Updated lists of quarantined areas are available on the relevant plant pest programs' websites.

² In this case, the last action informing the public of updates to quarantined areas was the final rule (Docket No. APHIS-2019-0035, 87 FR 80002-80019) published in the Federal Register on December 29, 2022. Please note that since the rule was issued, APHIS has replatformed its websites for domestic quarantine programs. For ease of access, direct links to each replatformed page are provided as footnotes in this document.

Karnal Bunt ³

³ https://www.aphis.usda.gov/plant-pests-diseases/karnal-bunt.

• DA-2023-05

Spongy Moth ⁴ (Gypsy Moth) ⁵

⁴ https://www.aphis.usda.gov/plant-pests-diseases/spongy-moth.

⁵ APHIS Announces New Common Names for Regulated Lymantria Moths (https://www.aphis.usda.gov/news/agency-announcements/aphis-announces-new-common-names-regulated-lymantria-moths).

• DA-2023-04

• DA-2023-11

Imported Fire Ant ⁶

⁶ https://www.aphis.usda.gov/plant-pests-diseases/ifa.

• DA-2023-10

Pale Cyst Nematode ⁷

⁷ https://www.aphis.usda.gov/plant-pests-diseases/pcn.

• DA-2023-01

• DA-2023-26

Fruit Flies ⁸

⁸ https://www.aphis.usda.gov/plant-pests-diseases/fruit-flies.

• DA-2023-08

• DA-2023-09

• DA-2023-12

• DA-2023-13

• DA-2023-14

• DA-2023-15

• DA-2023-16

• DA-2023-17

• DA-2023-20

• DA-2023-21

• DA-2023-23

• DA-2023-25

• DA-2023-27

• DA-2023-28

• DA-2023-30

Citrus Greening and Asian Citrus Psyllid ⁹

⁹ https://www.aphis.usda.gov/plant-pests-diseases/citrus-diseases/citrus-greening.

• DA-2023-19

• DA-2023-22

• DA-2023-29

This notice serves as an official record and public notification of these actions.

Authority: 7 U.S.C. 7701-7772 and 7781-7786; 7 CFR 2.22, 2.80, and 371.3. Section 301.75-15 issued under Sec. 204, Title II, Public Law 106-113, 113 Stat. 1501A-293; sections 301.75-15 and 301.75-16 issued under Sec. 203, Title II, Public Law 106-224, 114 Stat. 400 (7 U.S.C. 1421 note).

Done in Washington, DC, this 20th day of June 2024.
Donna Lalli,
Acting Administrator, Animal and Plant Health Inspection Service.

[FR Doc. 2024-13925 Filed 6-25-24; 8:45 am]

BILLING CODE 3410-34-P